DEPARTMENT OF ENERGY

Wind and Water Power Program: Guidance for Hydroelectric Incentive Payments

AGENCY: Office of Energy Efficiency and Renewable Energy, Department of Energy.

ACTION: Notice of availability of draft guidance

SUMMARY: The U.S. Department of Energy (DOE) invites public comment on its draft Guidance for EPAct 2005 Section 242 Program. The guidance describes how DOE intends to provide incentive payments to the owners or operators of qualified hydroelectric facilities for electric energy generated and sold for a specified 10-year period as authorized under section 242 of the Energy Policy Act of 2005.

DATES: Comments regarding this draft guidance must be received on or before July 17, 2014.

ADDRESSES: Written comments may be sent to the Office of Energy Efficiency and Renewable Energy (EE-4), U.S. Department of Energy, 1000 Independence Avenue SW., Washington, DC 20585-0121, or by email at hydroincentive@ee.doe.gov.

FOR FURTHER INFORMATION CONTACT: Requests for additional information should be directed to Mr. Steven Lindenberg, Office of Energy Efficiency and Renewable Energy (EE-4), U.S. Department of Energy, 1000 Independence Avenue SW., Washington, DC 20585-0121, (202) 586-2783, hydroincentive@ee.doe.gov.

SUPPLEMENTARY INFORMATION: In the Energy Policy Act of 2005 (EPAct 2005; Pub. L. 109-58) Congress established a new program to support the expansion of hydropower energy development at existing dams and impoundments through an incentive payment procedure. Under section 242 of EPAct 2005, the Secretary of Energy is directed to provide incentive payments to the owner or operator of qualified hydroelectric facilities for electric energy generated and sold by a qualified hydroelectric facility for a specified 10-year period. (See 42 U.S.C. 15881) DOE has not made these incentive payments in the past due to a lack of appropriations for the hydroelectric production incentive. The conference report to the Fiscal Year 2014 Omnibus Appropriations bill, however, includes $3,600,000 for conventional hydropower under section 242 of EPAct 2005.

In response, DOE developed draft guidance intended to describe the application process and the information necessary for DOE to make a determination of eligibility under section 242. The draft guidance is available at: http://energy.gov/eere/water/water-power-program.

Issued in Washington, DC, on June 26, 2014.
David Danielson,
Assistant Secretary, Energy Efficiency and Renewable Energy.

[FR Doc. 2014-15553 Filed 7-1-14; 8:45 am]

BILLING CODE 6450-01-P